DEPARTMENT OF DEFENSE

Department of the Navy

[Docket ID USN-2010-0031]

Privacy Act of 1974; System of Records

AGENCY: Department of the Navy, DoD.

ACTION: Notice to add a system of records.

SUMMARY: The Department of the Navy proposes to add a system of records in its inventory of record systems subject to the Privacy Act of 1974 (5 U.S.C. 552a), as amended.

DATES: The changes will be effective on September 27, 2010, unless comments are received that would result in a contrary determination.

ADDRESSES: You may submit comments, identified by docket number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Robin Patterson, (202) 685-6545.

SUPPLEMENTARY INFORMATION: The Department of the Navy systems of records notices subject to the Privacy Act of 1974, (5 U.S.C. 552a), as amended, have been published in the Federal Register and are available from Robin Patterson, FOIA/Privacy Act Policy Branch, the Department of the Navy, 2000 Navy Pentagon, Washington, DC 20350-2000.

The proposed systems report, as required by 5 U.S.C. 552a(r) of the Privacy Act of 1974, as amended, was submitted on August 18, 2010, to the House Committee on Government Report, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: August 23, 2010.
Mitchell S. Bryman,
Alternate OSD Federal Register Liaison Officer, Department of Defense.

N05726-1

System Name:

Leaders to Sea Database

System Location:

Primary location: Office of the Chief of Navy Information, 2000 Navy Pentagon, Washington, DC 20350-2000.

Secondary locations: Public Affairs Officers for the Navy aircraft carriers, ships, or submarines on which the individual is embarking. Official mailing addresses are published in the Standard Navy Distribution List available at http://doni.daps.dla.mil/sndl.aspx.

Categories of Individuals Covered by the System:

Visitors, volunteers, guests, and invitees to U.S. Navy aircraft carriers, ships, and submarines.

Categories of Records in the System:

Records consist of name, date and place of birth, personal address, home and cell phone numbers, personal e-mail address, occupation, gender, medical information (current medications and dosage; medical alert tag status and reason; existence of medical conditions or history such as asthma, diabetes, stroke, etc.; and consent to treatment), emergency contact information, food restrictions, and occupation.

Authority for Maintenance of the System:

10 U.S.C. 5013, Secretary of the Navy; DoD Instruction 5400.13, Public Affairs (PA) Operations; and OPNAV Instruction 5726.8, Outreach: America's Navy.

Purpose(s):

To vet individuals who will be embarking Navy ships and submarines to participate in the Navy's long standing “Leaders to Sea” public affairs program and to provide emergency contact and medical information which may become necessary if emergency care is required while embarked. Individuals submitting the information will also have the option to indicate whether they would like to receive future updates on Navy operations and events.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

The DoD “Blanket Routine Uses” that appear at the beginning of the Navy's compilation of system of record notices also apply to this system.

NOTE: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and Practices for Storing, Retrieving, Accessing, Retaining, and Disposing of Records:

Storage:

Electronic storage media.

Retrievability:

Name, home address, and occupation.

Safeguards:

Access is limited to those individuals who require the records in performance of their official duties. Access is further restricted by the use of passwords which are changed periodically. Physical entry is restricted by the use of locks, guards, and administrative procedures.

Retention and Disposal:

Destroy when no longer needed or after two years, whichever is later.

System Manager(s) and Address:

Assistant Chief of Information for Community Outreach, Office of the Chief of Navy Information, 2000 Navy Pentagon, Washington, DC 20350-2000.

Notification Procedure:

Individuals seeking to determine whether this system of records contains information about themselves should address written inquiries to the System Manager listed above.

The request must be signed, and include current address and telephone number. The system manager will require an original signature or a notarized signature as a means of proving the identity of the individual requesting access to determine if the system contains records about them.

Record Access Procedures:

Individuals seeking to access records about themselves contained in this system of records should address written inquiries to the System Manager listed above.

The request must be signed, and include current address and telephone number. The system manager will require an original signature or a notarized signature as a means of proving the identity of the individual requesting access to the records.

Contesting Record Procedures:

The Navy's rules for accessing records, and for contesting contents and appealing initial agency determinations are published in Secretary of the Navy Instruction 5211.5; 32 CFR part 701; or may be obtained from the system manager.

Record Source Categories:

From the individual.

Exemptions Claimed for the System:

None.

[FR Doc. 2010-21277 Filed 8-25-10; 8:45 am]

BILLING CODE 5001-06-P